DEPARTMENT OF ENERGY

Federal Energy Regulatory Commission

[Project No. 13102-003]

Birch Power Company; Notice of Availability of Draft Environmental Assessment

In accordance with the National Environmental Policy Act of 1969 and the Federal Energy Regulatory Commission's (Commission or FERC) regulations, 18 Code of Federal Regulations Part 380, Office of Energy Projects staff has reviewed the application for original license for the Demopolis Lock and Dam Hydroelectric Project (FERC No. 13102-003) on the Tombigbee River.

The Demopolis Lock and Dam Hydroelectric Project would be located at an existing lock and dam owned by the U.S. Army Corps of Engineers on the Tombigbee River, west of the city of Demopolis in Marengo and Sumter Counties, Alabama. The project would occupy 23 acres of federal land.

Staff has prepared this draft environmental assessment (draft EA) that analyzes the potential environmental effects of the project and concludes that constructing and operating the project, with appropriate environmental protection measures, would not constitute a major federal action that would significantly affect the quality of the human environment.

A copy of the draft EA is available for review at the Commission in the Public Reference Room or may be viewed on the Commission's Web site at www.ferc.gov using the “eLibrary” link. Enter the docket number, excluding the last three digits, in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

Any comments should be filed within 30 days from the date of this notice. The Commission strongly encourages electronic filing. Please file comments using the Commission's eFiling system at http://www.ferc.gov/docs-filing/efiling.asp. For assistance, please contact FERC Online Support at FERCOnlineSupport@ferc.gov or toll-free at 1-866-208-3676, or for TTY, 202-502-8659. In lieu of electronic filing, please send a paper copy to: Secretary, Federal Energy Regulatory Commission, 888 First Street NE., Washington, DC 20426. The first page of any filing should include: “Demopolis Lock and Dam Hydroelectric Project No. 13102-003.”

For further information, contact Adam Peer at (202) 502-8449 or by email at adam.peer@ferc.gov.

Dated: June 29, 2017.
Kimberly D. Bose,
Secretary.

[FR Doc. 2017-14335 Filed 7-7-17; 8:45 am]

BILLING CODE 6717-01-P